DEPARTMENT OF COMMERCE

International Trade Administration

A-475-703

Granular Polytetrafluoroethylene Resin From Italy: Notice of Extension of Time Limit for Preliminary Results of Antidumping Duty Administrative Review

AGENCY: Import Administration, International Trade Administration, Department of Commerce

EFFECTIVE DATE: April 9, 2008.

FOR FURTHER INFORMATION CONTACT: Alicia Winston or Salim Bhabhrawala, AD/CVD Operations, Office 1, Import Administration, International Trade Administration, U.S. Department of Commerce, 14th Street and Constitution Avenue, NW, Washington, DC 20230; telephone (202) 482-1785 or (202) 482-1784, respectively.

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On September 25, 2007, the Department published in the Federal Register a notice of initiation of administrative review of the antidumping duty order on granular polytetrafluoroethylene resin from Italy, covering the period August 1, 2006, through July 31, 2007. See Initiation of Antidumping and Countervailing Duty Administrative Reviews and Request for Revocation in Part, 72 FR 54428 (September 25, 2007). The preliminary results for this administrative review are currently due no later than May 2, 2008.

Extension of Time Limits for Preliminary Results

The Department requires additional time to review and analyze the sales and cost information submitted by the respondent in this administrative review because this review involves complex sales and cost accounting issues. Thus, it is not practicable to complete this review within the original time limit (i.e., May 2, 2008). Therefore, the Department is extending the time limit for completion of the preliminary results by 120 days to August 30, 2008, in accordance with section 751(a)(3)(A) of the Act and section 351.213(h)(2) of the Department's regulations. However, August 30, 2008, falls on a Saturday and September 1, 2008, is a holiday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results is now no later than September 2, 2008.

We are issuing and publishing this notice in accordance with sections 751(a)(1) and 777(i)(1) of the Act.

Dated: April 3, 2008.
Stephen J. Claeys,
Deputy Assistant Secretary for Import Administration.

[FR Doc. E8-7469 Filed 4-8-04; 8:45 am]

BILLING CODE 3510-DS-S